BROADCASTING BOARD OF GOVERNORS

SES Performance Review Board Membership

AGENCY: Broadcasting Board of Governors (BBG).

ACTION: Notice of Membership of SES Performance Review Board.

SUMMARY: Title 5 United States Code, Section 4314, requires that notice of the appointment of an individual to serve as a member of a performance review board (PRB) shall be published in the Federal Register. The following individuals have been appointed to serve as PRB members for BBG: Jon C. Brause, Deputy Assistant Administrator, Bureau for Democracy, Conflict and Humanitarian Services, U.S. Agency for International Development; Nigel Mote, Executive Director, U.S. Nuclear Waste Technical Review Board; and Ariane Whittemore, Special Assistant, Total Force Management, Manpower and Reserve Affairs, Office of the Assistant Secretary, U.S. Department of the Navy.

ADDRESSES: Broadcasting Board of Governors, 330 Independence Ave., SW., Washington, DC 20237.

FOR FURTHER INFORMATION CONTACT: Donna S. Grace, Director, Office of Human Resources, 202-382-7500.

Jeffrey N. Trimble,
Executive Director, Broadcasting Board of Governors.

[FR Doc. 2011-15033 Filed 6-16-11; 8:45 am]

BILLING CODE 8610-01-P